DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 21, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Consumer Complaint Monitoring System.

OMB Control Number: 0583-0133.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by ensuring that meat and poultry products are safe, wholesome, and properly labeled. FSIS tracks consumer complaints about meat, poultry, and egg products. Consumer complaints are usually filed because food made the consumer sick, caused an allergic reaction, was not properly labeled (misbranded), or contained a foreign object. The Agency uses a web portal to capture consumer complaint information.

Need and Use of the Information: The Consumer Complaint Monitoring System web portal is used primarily to track consumer complaints regarding meat, poultry, and egg products. FSIS will use the information collected from the web portal. To not collect the information from the web portal would reduce the effectiveness of the meat, poultry, and egg products inspection program.

Description of Respondents: Individuals or households.

Number of Respondents: 3,000.

Frequency of Responses: Reporting: On occasion.

Total Burden Hours: 750.

Food Safety and Inspection Service

Title: Voluntary Recalls of Meat and Poultry Products.

OMB Control Number: 0583-0135.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, unadulterated, and properly labeled and packaged. A firm that has produced or imported meat or poultry that is adulterated or misbranded and is being distributed in commerce, may voluntarily recall the product in question. Under the FMIA, firms are required to keep such records that fully and correctly disclose all transactions in their business (21 U.S.C. 642). Under the PPIA, firms are required to keep such records as are properly necessary for the effective enforcement of the PPIA (21 U.S.C. 460(b)).

Need and Use of the Information: When meat or poultry in commerce is adulterated or misbranded, FSIS requests that the establishment that produced the product voluntarily recall the product in question. In conducting a recall, the Agency asks the establishment to provide it with some basic information, including the identity of the recalled product, the reason for the recall, and information about the distributors and customers of the product. Industry representatives use the FSIS Form 5020-3 FSIS Preliminary Inquiry Worksheet to provide firm contact information and specific details regarding adulterated or misbranded product in commerce, including product identifiers, product amounts and supplemental information. Recalling firms and distributors then use the FSIS Form 5020-4 FSIS Recall Distribution Information Template to provide the location and contact information of consignees who received recalled product. The FSIS Forms 5020-3 and 5020-4 were developed to assist the respondents in collecting some of the basic information they have always been required to provide FSIS. FSIS uses this information to notify the public concerning product subject to a recall and to check on the effectiveness of the recall.

Description of Respondents: Business or other for-profit.

Number of Respondents: 6,090.

Frequency of Responses: Reporting: On Occasion.

Total Burden Hours: 6,600.

Food Safety and Inspection Service

Title: Animal Disposition Reporting.

OMB Control Number: 0583-0139.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, and properly labeled. FSIS also inspects exotic animals and rabbits under the authority of the Agricultural Marketing Act of 1946, as amended (7 U.S.C. 1621 et seq.). In accordance with 9 CFR 320.6, 381.180, 352.15, and 354.91, establishments that slaughter meat, poultry, exotic animals, and rabbits are required to maintain certain records regarding their business operations and to report this information to the Agency as required.

Need and Use of the Information: FSIS uses this information to plan inspection activities, to develop sampling plans, to target establishments for testing, to develop the Agency budget, and to develop reports to Congress. FSIS also provides this data to other USDA agencies, including the National Agricultural Statistics Service (NASS), the Animal and Plant Health Inspection Service (APHIS), the Agricultural Marketing Service (AMS), and the Grain Inspection, Packers and Stockyards Administration (GIPSA), for their publications and for other functions.

Description of Respondents: Business or other for-profit.

Number of Respondents: 1,159.

Frequency of Responses: Reporting: On Occasion; Daily.

Total Burden Hours: 23.180.

Food Safety and Inspection Service

Title: Requirements to Notify FSIS of Adulterated or Misbranded Product, Prepare and Maintain Written Recall Procedures, and Document Certain HACCP Plan Reassessments.

OMB Control Number: 0583-0144.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by verifying that meat and poultry products are safe, wholesome, unadulterated, and properly labeled and packaged. Section 11017 of the Food, Conservation, and Energy Act of 2008 (Pub. L. 110-246, 112 Stat. 1651, 448-49), amended the FMIA and the PPIA by adding sections 12 and 13 to the FMIA and by amending section 10 of the PPIA (21 U.S.C. 459). These sections require official establishments that believe they have shipped into commerce or received adulterated or misbranded product to notify the Secretary of Agriculture. In addition, establishments are to prepare and maintain current recall procedures, document each reassessment of its HACCP plan, and make the recall procedures and written records of the establishment's HACCP plan reassessments available for official review and copying.

Need and Use of the Information: Official establishments are to document each time they reassess their HACCP plans and make the reassessments available to FSIS officials for review and copying. Official establishments are to notify the FSIS District Office that they have received or have shipped into commerce misbranded or adulterated product. The information collected will permit FSIS officials to monitor closely establishments HACCP plan reassessments and to facilitate recalls or adulterated or misbranded product.

Description of Respondents: Business or other for-profit.

Number of Respondents: 6,300.

Frequency of Responses: Reporting: On occasion.

Total Burden Hours: 9,960.

Levi S. Harrell,
Departmental Information Collection Clearance Officer.

[FR Doc. 2024-21601 Filed 9-19-24; 8:45 am]

BILLING CODE 3410-DM-P